DEPARTMENT OF COMMERCE

Foreign-Trade Zones Board

[Order No. 2014]

Reorganization and Expansion of Foreign-Trade Zone 82 Under Alternative Site Framework; Mobile, Alabama

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the City of Mobile, grantee of Foreign-Trade Zone 82, submitted an application to the Board (FTZ Docket B-30-2015, docketed May 1, 2015, revised September 1, 2016) for authority to reorganize and expand under the ASF with a service area of Mobile, Baldwin, Butler (portion), Choctaw (portion), Clarke, Conecuh, Escambia, Monroe, Washington and Wilcox (portion) Counties, in and adjacent to the Mobile Customs and Border Protection port of entry, to restore 80 acres at Site 1, and FTZ 82's existing Sites 1 (as modified), 2, 3, 4, 7, 9, 13 and 18 would be categorized as magnet sites and Sites 14, 15, 16, 17 and 19 would be categorized as usage-driven sites;

Whereas, notice inviting public comment was given in the Federal Register (80 FR 26538-26539, May 8, 2015) and the revised application has been processed pursuant to the FTZ Act and the Board's regulations; and,

Whereas, the Board adopts the findings and recommendations of the examiner's report and addendum report, and finds that the requirements of the FTZ Act and the Board's regulations are satisfied;

Now, therefore, the Board hereby orders:

The revised application to reorganize and expand FTZ 82 under the ASF is approved, subject to the FTZ Act and the Board's regulations, including Section 400.13, to the Board's standard 2,000-acre activation limit for the zone, to an ASF sunset provision for magnet sites that would terminate authority for Sites 2, 3, 4, 7, 9, 13 and 18 if not activated within five years from the month of approval, and to an ASF sunset provision for usage-driven sites that would terminate authority for Sites 14, 15, 16, 17 and 19 if no foreign-status merchandise is admitted for a bona fide customs purpose within three years from the month of approval.

Signed at Washington, DC, this 21st day of September 2016.
Paul Piquado,
Assistant Secretary of Commerce for Enforcement and Compliance, Alternate Chairman, Foreign-Trade Zones Board.

[FR Doc. 2016-23308 Filed 9-26-16; 8:45 am]

BILLING CODE 3510-DS-P